DEPARTMENT OF TRANSPORTATION

Federal Aviation Administration

14 CFR Part 71

[Docket No. FAA-2023-0763; Airspace Docket No. 22-ANM-81]

RIN 2120-AA66

Modification of Class E Airspace; Burley Municipal Airport, Burley, ID

AGENCY: Federal Aviation Administration (FAA), DOT.

ACTION: Notice of proposed rulemaking (NPRM).

SUMMARY: This action proposes to modify the Class E airspace designated as a surface area, modify the Class E airspace extending upward from 700 feet above the surface, and modify the Class E airspace extending upward from 1,200 feet above the surface at Burley Municipal Airport, Burley, ID. Additionally, this action proposes administrative amendments to update the airport's existing Class E airspace legal descriptions. These actions would support the safety and management of instrument flight rules (IFR) operations at the airport.

DATES: Comments must be received on or before June 22, 2023.

ADDRESSES: Send comments identified by FAA Docket No. [FAA-2023-0763] and Airspace Docket No. [22-ANM-81] using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Keith T. Adams, Federal Aviation Administration, Western Service Center, Operations Support Group, 2200 S 216th Street, Des Moines, WA 98198; telephone (206) 231-2428.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify Class E airspace to support IFR operations at Burley Municipal Airport, Burley, ID.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the Northwest Mountain Regional Office of the Federal Aviation Administration, Air Traffic Organization, Western Service Center, Operations Support Group, 2200 S. 216th Street, Des Moines, WA 98198.

Incorporation by Reference

Class E2 and E5 airspace designations are published in paragraphs 6002 and 6005, respectively, of FAA Order JO 7400.11, Airspace Designations and Reporting Points, which is incorporated by reference in 14 CFR 71.1 on an annual basis. This document proposes to amend the current version of that order, FAA Order JO 7400.11G, dated August 19, 2022, and effective September 15, 2022. These updates would be published in the next update to FAA Order JO 7400.11. That order is publicly available as listed in the ADDRESSES section of this document.

FAA Order JO 7400.11G lists Class A, B, C, D, and E airspace areas, air traffic service routes, and reporting points.

The Proposal

The FAA is proposing an amendment to 14 CFR part 71 to modify the Class E airspace designated as a surface area, modify the Class E airspace extending upward from 700 feet above the surface, and modify Class E airspace extending upward from 1,200 feet above the surface at Burley Municipal Airport, Burley, ID.

The current Class E airspace designated as a surface area is oversized for the purpose of containing instrument flight procedures. This area should be reduced to be within a 5-mile radius of the airport, with the southwest portion extending to the airport's 7-mile radius from the airport's 208° bearing clockwise to the 274° bearing to more appropriately contain IFR operations while between the surface and 1,000 feet above the surface and IFR departure operations while between the surface and the base of adjacent controlled airspace.

The existing Class E airspace extending upward from 700 feet above the surface should be modified to more appropriately contain arriving IFR operations below 1,500 feet above the surface and departing IFR operations until they reach 1,200 feet above the surface. The northern portion of the airspace should be reduced to be within a 6.5-mile radius of the airport, from the airport's 274° bearing clockwise to the 074° bearing. The southeast portion of the airspace should be reduced to be within a 5.6-mile radius of the airport, from the airport's 074° bearing clockwise to the 208° bearing. Lastly, the southwest portion of the airspace should be reduced to be within a 7-mile radius of the airport, from the airport's 208° bearing clockwise to the 274° bearing.

The existing Class E airspace extending upward from 1,200 feet above the surface should be modified to better align with adjacent, similarly typed Class E airspace. A realignment would better accommodate arriving IFR operations at 1,500 feet and higher above the surface and departing IFR operations from the point they reach 1,200 feet above the surface until reaching overlying or adjacent controlled airspace.

Finally, the FAA proposes administrative modifications to the airport's associated legal descriptions. The navigational aid (NAVAID) referenced in legal descriptions is identified as a very high frequency omni-directional range/tactical air navigation (VORTAC) should be removed. It is incorrectly identified (it is actually a very high frequency omni-directional range/distance measuring equipment (VOR/DME)) and is not needed in the legal description.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6002 Class E Airspace Areas Designated as a Surface Areas.

* * * * *

ANM ID E2 Burley, ID [Amended]

Burley Municipal Airport, ID

(Lat. 42°32′33″ N, long. 113°46′18″ W)

That airspace extending from the surface within a 5-mile radius of Burley Municipal Airport from the 274° bearing from the airport clockwise to the 208° bearing from the airport, and that airspace from the 208° bearing from the airport clockwise to the 274° bearing extending from the surface between a 5-mile radius to a 7-miles radius southwest of the airport.

Paragraph 6005 Class E Airspace Areas Extending Upward From 700 Feet or More Above the Surface of the Earth.

* * * * *

ANM ID E5 Burley, ID [Amended]

Burley Municipal Airport, ID

(Lat. 42°32′33″ N, long. 113°46′18″ W)

That airspace extending upwards from 700 feet above the surface within a 6.5-mile radius of the Burley Municipal Airport, from the 274° bearing from the airport clockwise to the 074° bearing from the airport; and that airspace extending upward from 700 feet above the surface within a 5.6-mile radius of Burley Municipal Airport from the 074° bearing clockwise to the 208° from the airport; and that airspace extending upwards from 700 feet above the surface within a 7-mile radius of Burley Municipal Airport, from the 208° bearing from the airport clockwise to the 274° bearing from the airport; and that airspace extending upwards from 1,200 feet above the earth beginning at lat. 42°36′45 N, long. 114°14′48 W; to lat. 43°0′1, long. 114°2′9 W; to lat. 42°59′59 N, long. 112°59′57 W; to lat. 42°29′59 N. long. 113°0′0 W; to lat. 42°4'13, long. 114°30'42 W; lat. 42°36′20 N, long. 114°14′35; to lat. 42°36′27, long. 114°14′55 W; to lat. 42°36′46 N, long. 114°14′48 W; to the point of beginning.

* * * * *

Issued in Des Moines, Washington, on April 25, 2023.
B.G. Chew,
Group Manager, Operations Support Group, Western Service Center.

[FR Doc. 2023-09144 Filed 5-5-23; 8:45 am]

BILLING CODE 4910-13-P